DEPARTMENT OF JUSTICE

Antitrust Division

Notice Pursuant to the National Cooperative Research and Production Act of 1993—AllSeen Alliance, Inc.

Notice is hereby given that, on January 29, 2014, pursuant to Section 6(a) of the National Cooperative Research and Production Act of 1993, 15 U.S.C. 4301 et seq. (“the Act”), AllSeen Alliance, Inc. (“AllSeen Alliance”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: 2lemetry LLC, Denver, CO; Affinegy, Austin, TX; Canary Connect, Inc., New York, NY; Cisco Systems, Inc., Lawrenceville, GA; D-Link Systems, Inc., Fountain Valley, CA; DoubleTwist Corporation, San Francisco, CA; Fon Wireless Limited, London, UNITED KINGDOM; Haier Group, Qingdao, PEOPLE'S REPUBLIC OF CHINA; Harman International, Stamford, CT; HTC Corporation, Taoyuan City, PEOPLE'S REPUBLIC OF CHINA; iControl Networks, Inc., Redwood City, CA; Le Shi Zhi XIn Electronic Technology (Tianjin) Limited, Chaoyang District, Beijing, PEOPLE'S REPUBLIC OF CHINA; LG Electronics, Inc., Youngdungo-gu, Seoul, REPUBLIC OF KOREA; LiFi Labs Inc. (LIFX), San Francisco, CA; LiteOn Technology Corporation, New Taipei City, TAIWAN; Moxtreme Corporaton, Saratoga, CA; Musaic Ltd., London, UNITED KINGDOM; Muzzley, S.A., Lisboa, PORTUGAL; Panasonic Corporation, Kadoma-shi, Osaka, JAPAN; Qualcomm Connected Experiences, Inc., San Diego, CA; Sears Brands Management Corporation, Hoffman Estates, IL; Sharp Corporation, Abeno-ku, Osaka, JAPAN; Silicon Image, Sunnyvale, CA; Sproutling, San Francisco, CA; The Sprosty Network, Fort Lauderdale, FL; TP-LINK Technologies Co., Ltd., Nanshan, Shenzhen, PEOPLE'S REPUBLIC OF CHINA; Tuxera Inc., Helsinki, FINLAND; Weaved, Inc. (formerly Yoics, Inc.), Palo Alto, CA; and Wilocity, Sunnyvale, CA.

The general areas of AllSeen Alliance's planned activity are: (a) To advance the creation, evolution, promotion, and support of an open-source software platform for device intercommunication and associated device-based services, (b) to promote such platform and services worldwide, and (c) to undertake such other activities as may from time to time be appropriate to further the purposes and achieve the goals set forth above. Membership in AllSeen Alliance remains open and AllSeen Alliance intends to file additional written notifications disclosing all changes in membership.

Patricia A. Brink,
Director of Civil Enforcement, Antitrust Division.

[FR Doc. 2014-04670 Filed 3-3-14; 8:45 am]

BILLING CODE 4410-11-P